DEPARTMENT OF AGRICULTURE

Forest Service

Extension of Comment Period; Application for Transportation and Utility Systems and Facilities for the Village at Wolf Creek Draft Environmental Impact Statement

AGENCY: Forest Service, Rio Grande National Forest.

ACTION: Extension of comment period.

SUMMARY: The United States Department of Agriculture (USDA) Forest Service (USFS), Rio Grande National Forest (RGNF) announces the extension of the comment period for the Application for Transportation and Utility Systems and Facilities for the Village at Wolf Creek Draft Environmental Impact Statement (EIS). The comment period ends December 6, 2004.

FOR FURTHER INFORMATION CONTACT: Contact Mr. Robert Dalrymple, Forest Planner, USDA-USFS, Rio Grande National Forest, (719) 852-5941.

Dated: November 16, 2004.
Peter L. Clark,
Forest Supervisor.

[FR Doc. 04-26052 Filed 11-23-04; 8:45 am]

BILLING CODE 3410-11-M